ENVIRONMENTAL PROTECTION AGENCY

40 CFR Part 180

[OPP-2005-0115; FRL-7725-1]

Two Isopropylamine Salts of Alkyl C4 and Alkyl C8-10 Ethoxyphosphate Esters; Exemption from the Requirement of a Tolerance; Technical Correction

AGENCY: Environmental Protection Agency (EPA).

ACTION: Final rule; technical correction.

SUMMARY: EPA issued a final rule in the Federal Register of June 1, 2005, establishing two tolerance exemptions for two isopropylamine salts. This document is being issued to correct the CAS Reg. No. for one of those salts, 2-propanamine, compound with α-phosphono-ω-butoxypoly (oxy-1,2-ethanediyl) (2:1).

DATES: This final rule is effective on July 20, 2005.

ADDRESSES: Follow the detailed instructions as provided under ADDRESSES in the Federal Register document of May 18, 2005.

FOR FURTHER INFORMATION CONTACT: Kathryn Boyle, Registration Division (7505C), Office of Pesticide Programs, Environmental Protection Agency, 1200 Pennsylvania Ave., NW., Washington, DC 20460-0001; telephone number: (703) 305-6304; e-mail address: boyle.kathryn@epa.gov.

SUPPLEMENTARY INFORMATION:

I. General Information

A. Does this Action Apply to Me?

The Agency included in the final rule a list of those who may be potentially affected by this action. If you have questions regarding the applicability of this action to a particular entity, consult the person listed under the FOR FURTHER INFORMATION CONTACT.

B. How Can I Access Electronic Copies of this Document and Other Related Information?

In addition to using EDOCKET at http://www.epa.gov/edocket/, you may access this Federal Register document electronically through the EPA Internet under the “Federal Register” listings at http://www.epa.gov/fedrgstr/. A frequently updated electronic version of 40 CFR part 180 is available at E-CFR Beta Site Two at http://www.gpoaccess.gov/ecfr/.

II. What Does this Correction Do?

A tolerance exemption for 2-propanamine, compound with α-phosphono-ω-butoxypoly (oxy-1,2-ethanediyl) (2:1) was established in the Federal Register of June 1, 2005, (70 FR 31365) (FRL-7712-1). In that document the CAS Registration No. (CAS Reg. No.) in the tolerance exemption expression and in the preamble was incorrectly listed as 43140-31-2. The valid CAS Reg. No. should be 431040-31-2.

The CAS Reg. No. now appearing as “43140-31-2” is corrected to read “431040-31-2” on the following pages of the preamble of the final rule published on June 1, 2005 (FR Doc. 05-10845):

1. On page 31365, in the third column, under Unit II., in the second paragraph, in the eighth line.

2. On page 31368, in the first column, under Unit VIII., seventh line from the bottom.

3. On page 31368, in the second column, under Unit X., in the sixth line.

III. Why is this Correction Issued as a Final Rule?

Section 553 of the Administrative Procedure Act (APA), 5 U.S.C. 553(b)(B), provides that, when an agency for good cause finds that notice and public procedure are impracticable, unnecessary, or contrary to the public interest, the agency may issue a final rule without providing notice and an opportunity for public comment. EPA has determined that there is good cause for making this technical correction final without prior proposal and opportunity for comment, because EPA is merely correcting a typographical error in a previously-published final rule in the Chemical Abstracts Service (CAS) numerical designation for a chemical.

A chemical can be described by more than one name. But, the CAS Reg No. is the most unique identifier for a chemical substance. CAS Reg. Nos. are assigned by a specific set of procedures which allow for a verification check. (See http://www.cas.org/EO/checkdig.html). A CAS Reg. No. in which a zero was inadvertently left out fails the verification procedure, and thus is not recognized as a valid identifier.

The CAS Reg No. given in these actions had a typographical error but should not have been a source of confusion since the typographical error resulted in the CAS Reg. No. being invalid not in it identifying a different chemical. Moreover, the text of the preamble in the final rule clearly identified the chemical by its correct chemical nomenclature.

Notice and public procedures are unnecessary for such a minor change. EPA finds that this constitutes good cause under 5 U.S.C. 553(b)(B).

IV. Do Any of the Statutory and Executive Order Reviews Apply to this Action?

This final rule implements a technical correction to the CFR., and it does not otherwise impose or amend any requirements. As such, the Office of Management and Budget (OMB) has determined that a technical correction is not a significant regulatory action subject to review by OMB under Executive Order 12866, entitled Regulatory Planning and Review (58 FR 51735, October 4, 1993). Nor does this final rule contain any information collection requirements subject to OMB approval under the Paperwork Reduction Act (PRA), 44 U.S.C. 3501 et seq.), or impose any enforceable duty or contain any unfunded mandate as described under Title II of the Unfunded Mandates Reform Act of 1995 (UMRA) (Public Law 104-4).

Since the Agency has made a good cause finding that this action is not subject to notice-and-comment requirements under the APA or any other statute (see Unit III.), this action is not subject to provisions of the Regulatory Flexibility Act (RFA) (5 U.S.C. 601 et seq.).

This action will not result in environmental justice related issues and does not, therefore, require any special considerations under Executive Order 12898, entitled Federal Actions to Address Environmental Justice in Minority Populations and Low-Income Populations (59 FR 7629, February 16, 1994).

Since this action is not a significant regulatory action as defined by Executive Order 12866; it does not require OMB review or any Agency action under Executive Order 13045, entitled Protection of Children from Environmental Health Risks and Safety Risks (62 FR 19885, April 23, 1997), and is not subject to Executive Order 13211, Actions Concerning Regulations That Significantly Affect Energy Supply, Distribution, or Use (66 FR 28355, May 22, 2001).

This action does not involve any technical standards that would require Agency consideration of voluntary consensus standards pursuant to section 12(d) of the National Technology Transfer and Advancement Act of 1995 (NTTAA), Public Law 104-113, section 12(d) (15 U.S.C. 272 note).

This technical correction will not have a substantial direct effect on States, on the relationship between the national government and the States, or on the distribution of power and responsibilities among the various levels of government, as specified in Executive Order 13132, entitled Federalism (64 FR 43255, August 10, 1999). Executive Order 13132 requires EPA to develop an accountable process to ensure “meaningful and timely input by State and local officials in the development of regulatory policies that have federalism implications.” “Policies that have federalism implications” is defined in the Executive order to include regulations that have “substantial direct effects on the States, on the relationship between the national government and the States, or on the distribution of power and responsibilities among the various levels of government.” This technical correction does not alter the relationships or distribution of power and responsibilities established by Congress in the preemption provisions of section 408(n)(4) of the FFDCA. For these same reasons, this technical correction does not have any “tribal implications” as described in Executive Order 13175, entitled Consultation and Coordination with Indian Tribal Governments (65 FR 67249, November 6, 2000). Executive Order 13175, requires EPA to develop an accountable process to ensure “meaningful and timely input by tribal officials in the development of regulatory policies that have tribal implications.” “Policies that have tribal implications” is defined in the Executive order to include regulations that have “substantial direct effects on one or more Indian tribes, on the relationship between the Federal Government and the Indian tribes, or on the distribution of power and responsibilities between the Federal Government and Indian tribes.” This rule will not have substantial direct effects on tribal governments, on the relationship between the Federal Government and Indian tribes, or on the distribution of power and responsibilities between the Federal Government and Indian tribes, as specified in Executive Order 13175. Thus, Executive Order 13175 does not apply to this rule.

V. Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of this final rule in the Federal Register. This final rule is not a “major rule ” as defined by 5 U.S.C. 804(2).

List of Subjects in 40 CFR Part 180

Environmental protection, Administrative practice and procedure, Agricultural commodities, Pesticides and pests, Reporting and recordkeeping requirements.

Dated: July 8, 2005.
Betty Shackleford,
Acting Director, Registration Division, Office of Pesticide Programs.

Therefore, 40 CFR part 180 is amended as follows:

PART 180—[AMENDED]

1. The authority citation for part 180 continues to read as follows:

Authority: 21 U.S.C. 321(q), 346a and 371.

2. In § 180.920, by revising the entry for 2-Propanamine, compound with α-phosphono-ω-butoxypoly (oxy-1,2-ethanediyl) (2:1), in the table, to read as follows:

§ 180.920 Inert ingredients used pre-harvest; exemptions from the requirement of a tolerance.

* * * * *

Inert ingredients | Limits | Uses
* * * * * * *
2-Propanamine, compound with α-phosphono-ω-butoxypoly (oxy-1,2-ethanediyl) (2:1). (CAS Reg. No. 431040-31-2) | Not more than 15% in the formulated product | Surfactant
* * * * * * *

[FR Doc. 05-13979 Filed 7-19-05; 8:45 am]

BILLING CODE 6560-50-S